DEPARTMENT OF COMMERCE

National Oceanic and Atmospheric Administration

RIN: 0648-XN94

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Monkfish Oversight Committee, on March 31, 2009, to consider actions affecting New England fisheries in the exclusive economic zone (EEZ). Recommendations from this group will be brought to the full Council for formal consideration and action, if appropriate.

DATES: This meeting will be held on Tuesday, March 31, 2009, at 9 a.m.

ADDRESSES: The meeting will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Monkfish Committee will review the New England Fishery Management Council's Science and Statistical (SSC) report on the process to be used to set Acceptable Biological Catch (ABC), Annual Catch Limits (ACLs), Accountability Measures (AMs), and other management reference points. The Committee will also review the comments submitted by the public during the scoping period for Amendment 5 to the Monkfish Fishery Management Plan (FMP). This meeting is the first on Amendment 5, and as such, the Committee will provide specificity and direction to the Monkfish Plan Development Team (PDT) on the reference points and management measures the PDT should start analyzing and developing. The Committee will meet again, as will the Industry Advisory Panel, prior to the June 2009 Council meeting to formulate its recommendations on the range of alternatives and reference points to be considered and developed in the Amendment 5 Draft Environmental Impact Statement.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: March 5, 2009.
Tracey L. Thompson,
Acting Director, Office of Sustainable Fisheries, National Marine Fisheries Service.

[FR Doc. E9-5084 Filed 3-10-09; 8:45 am]

BILLING CODE 3510-22-S